DEPARTMENT OF COMMERCE

International Trade Administration

[A-552-817]

Certain Oil Country Tubular Goods From the Socialist Republic of Vietnam: Final Results of Antidumping Duty Administrative Review; 2014-2015

AGENCY: Enforcement and Compliance, International Trade Administration, Department of Commerce

SUMMARY: The Department of Commerce (the Department) is conducting an administrative review of the antidumping duty order on certain oil country tubular goods (OCTG) from the Socialist Republic of Vietnam (Vietnam). The period of review (POR) is February 25, 2014 through August 31, 2015. These final results cover one company, SeAH Steel VINA Corporation (SSV).

DATES: Effective April 20, 2017.

FOR FURTHER INFORMATION CONTACT: Fred Baker, AD/CVD Operations, Office VI, Enforcement and Compliance, International Trade Administration, Department of Commerce, 1401 Constitution Avenue NW., Washington, DC 20230; telephone: (202) 482-2924.

SUPPLEMENTARY INFORMATION:

Background

The Department initiated this review on November 9, 2015.¹ On October 14, 2016, the Department published the Preliminary Results of this administrative review.² At that time, we invited interested parties to comment on the Preliminary Results. On November 23, 2016, we received case briefs from Energex Tube, TMK IPSCO, Vallourec Star, L.P., and Welded Tube USA (collectively, Petitioners),³ and SSV.⁴ On December 2, 2016, we received rebuttal briefs from Petitioners ⁵ and SSV.⁶ On February 9, 2017, the Department extended the deadline for the final results of this administrative review until March 31, 2017.⁷ On March 29, 2017, the Department extended the deadline for the final results until April 12, 2017.⁸

¹ See Initiation of Antidumping and Countervailing Duty Administrative Reviews, 80 FR 69193 (November 9, 2015) (Initiation Notice).

² See Certain Oil Country Tubular Goods from the Socialist Republic of Vietnam: Preliminary Results of Antidumping Duty Administrative Review, 81 FR 71071 (October 14, 2016) (Preliminary Results), and accompanying Preliminary Decision Memorandum (Preliminary Decision Memorandum).

³ See Letter from Petitioners to the Secretary, Re: Certain Oil Country Tubular Goods from the Socialist Republic of Vietnam: Petitioners' Case Brief, dated November 23, 2016 (Petitioners Case Brief).

⁴ See Letter from SSV to the Secretary, Re: 2014-15 Administrative Review of the Antidumping Duty Order on Oil Country Tubular Goods from Vietnam—Case Brief of SeAH Steel VINA Corporation, dated November 23, 2016 (SSV Case Brief).

⁵ See Letter from Petitioners to the Secretary, Re: Certain Oil Country Tubular Goods from the Socialist Republic of Vietnam: Petitioners' Rebuttal Brief, dated December 2, 2016 (Petitioners Rebuttal Brief).

⁶ See Letter from SSV to the Secretary, Re: 2014-15 Administrative Review of the Antidumping Duty Order on Oil Country Tubular Goods from Vietnam—Rebuttal Case Brief of SeAH Steel VINA Corporation,” dated December 2, 2016 (SSV Rebuttal Brief).

⁷ See Memorandum from Fred Baker to Gary Taverman, Re: Certain Oil Country Tubular Goods from the Socialist Republic of Vietnam: Extension of Time Limit for Final Results of Antidumping Duty Administrative Review,” dated February 9, 2017.

⁸ See Memorandum from Fred Baker to Gary Taverman, Re: Certain Oil Country Tubular Goods from the Socialist Republic of Vietnam: Extension of Time Limit for Final Results of Antidumping Duty Administrative Review,” dated March 29, 2017.

Scope of the Order

The merchandise covered by the order is certain oil country tubular goods (OCTG). The merchandise subject to the order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

While the HTSUS subheadings above are provided for convenience and customs purposes, the written description is dispositive.⁹

⁹ For the full scope of the order, see Memorandum to Ronald K. Lorentzen, Acting Assistant Secretary for Enforcement and Compliance, Re: Certain Oil Country Tubular Goods from the Socialist Republic of Vietnam: Issues and Decision Memorandum for the Final Results of Administrative Review, dated April 12, 2017 (Issues and Decision Memorandum).

Analysis of Comments Received

All issues raised in the case and rebuttal briefs filed by parties in this review are addressed in the Issues and Decision Memorandum, which is incorporated herein by reference. A list of the issues which parties raised, and to which we respond in the Issues and Decision Memorandum, follows in the appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Department of Commerce building. In addition, a complete version of the Issues and Decision Memorandum can be accessed directly on the Internet at http://enforcement.trade.gov/frn/index.html. The signed Issues and Decision Memorandum and the electronic version of the Issues and Decision Memorandum are identical in content.

Changes Since the Preliminary Results

In these final results of review, we made the following changes from the Preliminary Results:

• We used only the financial statements of Surya Global Steel Tubes Limited (Surya) to calculate surrogate financial ratios, rather than the average of the ratios obtained from the financial statements of Surya and APL Apollo Tubes Limited. See Comment 1 of the Issues and Decision Memorandum.

• We valued export and import brokerage and handling (B&H) using data obtained from Doing Business 2016: India, rather than Doing Business 2014: India. See Comment 2 of the Issues and Decision Memorandum.

• We did not include a surrogate value for B&H incurred on imports of raw materials from non-market economy countries. See Comment 2 of the Issues and Decision Memorandum.

• We valued the costs of inland insurance using a surrogate value. See Comment 4 of the Issues and Decision Memorandum.

Final Results of Review

The Department determines that the following weighted-average dumping margin exists for the period February 25, 2014 through August 31, 2015:

Exporter | Weighted- average dumping margin (percent)
SeAH Steel VINA Corporation | 0.00

Disclosure

The Department intends to disclose the calculations performed for these final results of review within five days of the date of publication of this notice in the Federal Register, in accordance with 19 CFR 351.224(b).

Assessment

Pursuant to section 751(a)(2)(A) of the Act and 19 CFR 351.212(b), the Department will determine, and Customs and Border Protection (CBP) shall assess, antidumping duties on all appropriate entries of subject merchandise in accordance with the final results of this review. The Department intends to issue assessment instructions to CBP 15 days after the date of publication of the final results of this administrative review in the Federal Register.

Consistent with the Department's assessment practice in non-market economy (NME) cases, for entries that were not reported in the U.S. sales database submitted by companies individually examined during the administrative review, the Department will instruct CBP to liquidate such entries at the Vietnam-wide rate. Additionally, if the Department determines that an exporter under review had no shipments of subject merchandise, any suspended entries that entered under the exporter's case number (i.e., at that exporter's rate) will be liquidated at the Vietnam-wide rate.¹⁰

¹⁰ See Non-Market Economy Antidumping Proceedings: Assessment of Antidumping Duties, 76 FR 65694 (October 24, 2011).

Cash Deposit Requirements

The following cash deposit requirements will be effective upon publication of the final results of this administrative review for all shipments of the subject merchandise from Vietnam entered, or withdrawn from warehouse, for consumption on or after the publication date, as provided for by section 751(a)(2)(C) of the Act: (1) For SeAH, the cash deposit rate will be zero; (2) for previously investigated or reviewed Vietnamese and non-Vietnamese exporters not listed above that received a separate rate in a prior segment of this proceeding, the cash deposit rate will continue to be the exporter-specific rate published for the most-recently completed segment of this proceeding in which the exporter was reviewed; (3) for all Vietnamese exporters of subject merchandise which have not been found to be entitled to a separate rate, the cash deposit rate will be that established for the Vietnam-wide entity, which is 111.47 percent; ¹¹ and (4) for all non-Vietnamese exporters of subject merchandise which have not received their own rate, the cash deposit rate will be the rate applicable to the Vietnamese exporter that supplied that non-Vietnamese exporter with the subject merchandise. These deposit requirements, when imposed, shall remain in effect until further notice.

¹¹ See also Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014).

Notification to Importers

This notice serves as a final reminder to importers of their responsibility under 19 CFR 351.402(f)(2) to file a certificate regarding the reimbursement of antidumping duties and/or countervailing duties prior to liquidation of the relevant entries during this POR. Failure to comply with this requirement could result in the Department's presumption that reimbursement of antidumping duties occurred and the subsequent assessment of doubled antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h) (1).

Dated: April 12, 2017.
Ronald K. Lorentzen,
Acting Assistant Secretary for Enforcement and Compliance.

Appendix—List of Topics Discussed in the Issues and Decision Memorandum

Summary

Background

Scope of the Order

Discussion of the Issues

Comment 1: Financial Statements

Comment 2: Brokerage and Handling

Comment 3: Surrogate Value for Water

Comment 4: Inland Insurance

Comment 5: Differential Pricing

Recommendation

[FR Doc. 2017-08023 Filed 4-19-17; 8:45 am]

BILLING CODE 3510-DS-P